DEPARTMENT OF AGRICULTURE

Farm Service Agency

Request for Reinstatement and Revision of a Previously Approved Information Collection

AGENCY: Farm Service Agency, USDA.

ACTION: Notice and request for comments.

SUMMARY: In accordance with the Paperwork Reduction Act of 1995, this notice announces the intent of the Farm Service Agency (FSA) to request a reinstatement and revision of a previously approved information collection used in support of the FSA, Farm Loan Programs (FLP). This renewal does not involve any revisions to the program regulations.

DATES: Comments on this notice must be received on or before September 11, 2000 to be assured consideration.

FOR FURTHER INFORMATION CONTACT: Patrick Spalding, Loan Officer, USDA, FSA, Farm Loan Programs, Loan Making Division, 1400 Independence Avenue, SW, STOP 0522, Washington, D.C. 20250-0522; Telephone (202) 690-0595; Electronic mail: patrick.spalding@usda.gov.

SUPPLEMENTARY INFORMATION: Title: Direct Farm Ownership Loan Policies, Procedures, and Authorizations.

OMB Control Number: 0560-0157.

Type of Request: Reinstatement and Revision of a Previously Approved Information Collection.

Abstract: The information collected under OMB Control Number is 0560-0157 is necessary to administer the farm ownership loan program in accordance with the requirements in 7 CFR part 1943 subpart A as authorized by the Consolidated Farm and Rural Development Act. Specifically, the Agency uses the information to evaluate loan making or loan servicing proposals. The information is needed by the Agency to evaluate an applicant's eligibility, and to determine if the operation is economically feasible and the security offered in support of the loan is adequate.

Estimate of Burden: Public reporting burden for this collection of information is estimated to average .25 hours per response.

Respondents: Individuals or households, businesses or other for profit and farms.

Estimated Number of Respondents: 200.

Estimated Number of Responses: 210.

Estimated Total Annual Burden: 50.85.

Comments are sought on these requirements including: (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collections techniques or other forms of information technology.

These comments should be sent to the Desk Officer for Agriculture, Office of Information and Regulatory Affairs, Office of Management and Budget, Washington, D.C. 20503 and to Mike Hinton, USDA, FSA, Farm Loan Programs, Loan Making Division, 1400 Independence Avenue, SW, STOP 0522, Washington, D.C. 20250-0522. Copies of the information collection may be obtained from Mike Hinton at the above address. Comments regarding paperwork burden will be summarized and included in the request for OMB approval of the information collection. All comments will also become a matter of public record.

Signed in Washington, D.C., on July 6, 2000.
Keith Kelly,
Administrator, Farm Service Agency.

[FR Doc. 00-17680 Filed 7-12-00; 8:45 am]

BILLING CODE 3410-05-P